CONSUMER PRODUCT SAFETY COMMISSION

[Docket No. CPSC-2009-0044]

Agency Information Collection Activities; Extension of Collection; Safety Standard for Cigarette Lighters

AGENCY: Consumer Product Safety Commission.

ACTION: Notice of information collection; request for comment.

SUMMARY: As required by the Paperwork Reduction Act of 1995 (PRA), the Consumer Product Safety Commission (CPSC or Commission) announces that the Commission has submitted to the Office of Management and Budget (OMB) a request for extension of approval of information collection requirements associated with the Safety Standard for Cigarette Lighters. OMB previously approved the collection of information under control number 3041-0116. OMB's most recent extension of approval will expire on November 30, 2025. On September 22, 2025, CPSC published a notice in the Federal Register to announce the agency's intention to seek extension of approval of the collection of information. The Commission received two, out of scope, public comments. Therefore, by publication of this notice, the Commission announces that CPSC has submitted to OMB a request for extension of approval of that collection of information.

DATES: Submit comments on the collection of information by December 29, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2009-0044.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Safety Standard for Cigarette Lighters.

OMB Number: 3041-0116.

Type of Review: Renewal of collection.

Frequency of Response: On occasion.

Affected Public: Manufacturers and importers of cigarette lighters.

General Description of Collection: The Safety Standard for Cigarette Lighters (16 CFR part 1210) addresses the risks of death and burn injury associated with fires accidentally started by children playing with cigarette lighters. The standard requires certain test protocols, as well as recordkeeping and reporting requirements. 16 CFR part 1210, subpart B. In addition, section 14(a) of the Consumer Product Safety Act (CPSA) requires manufacturers, importers, and private labelers of a consumer product subject to a consumer product safety standard to issue a certificate stating that the product complies with all applicable consumer product safety standards. 15 U.S.C. 2063(a). Section 14(a) of the CPSA also requires that the certificate of compliance must be based on a test of each product or upon a reasonable testing program. Id.

Estimated Number of Respondents: Based on averaging available data from fiscal years 2021 (used in the last PRA renewal) and 2024, CPSC estimates approximately 30 firms will respond to the collection annually.

Estimated Time per Response: The burden associated with the standard includes the time spent compiling the test records. The burden associated with compiling a test record for a new model is expected to be about 90 hours per model. There is no burden associated with the comparison lighters.¹ For recordkeeping, the time for a new model is estimated to be 20 hours and for a comparison lighter it is estimated to be three hours. For reporting, approximately one hour per product will be required for manufacturers to submit information to CPSC.

¹ Under § 1210.14, if a manufacturer has tested one lighter model, and then wishes to distribute another lighter model that differs from the first model only in features that would not have an adverse effect on child resistance, the second model need not be tested in accordance with § 1210.4.

Total Estimated Annual Burden: CPSC expects four new models to be subject to initial qualification testing annually and approximately 139 lighters comparable to previously tested models, comparison lighters, to be subject to ongoing testing annually.

The burden associated with the standard includes the cost for compiling and maintaining the test records, either by the firm or by outside contractors. As previously mentioned, comparison lighters do not have a burden associated with compiling a test record, including costs. If the firm elects to use an outside contractor, the estimated cost for compiling a test record for a new model is about $25,000 on average.² If all four new lighter models are tested annually by outside contractors, the cost is expected to be about $100,000. The total time to compile a test record for the four models, if conducted in-house, is approximately 360 hours. The total time for recordkeeping of new models is expected to be 80 hours (20 hours × 4 models). For 139 comparison lighters, the estimated burden for recordkeeping is 417 hours (139 models × 3 hours). For reporting, CPSC estimates 143 total hours for reporting (4 new models + 139 comparison lighters). The annual total number of hours is expected to be 1,000 hours (360 testing hours + 497 record keeping hours + 143 reporting hours) per year.

² This estimate is based on an approximate cost of $22,000 of compiling a test record per panel, but for a few models a second test panel will be required.

Total Estimated Annual Cost to Respondents: CPSC estimates that hourly compensation for the time required for compiling a test record is $77.19 per hour (U.S. Bureau of Labor Statistics, “Employer Costs for Employee total compensation for management, professional, and related workers in goods-producing industries: https://www.bls.gov/news.release/archives/ecec_06132025.pdf). The total cost to industry for this regulation is expected to be within the range of $27,788 to $100,000 per year, depending on whether the testing is performed in-house or outsourced.

For the recordkeeping burden, CPSC estimates that the hourly compensation is $41.59 (U.S. Bureau of Labor Statistics, “Employer Costs for Employee Compensation,” March 2025, Table 4, total compensation for all sales and office workers in goods-producing, private industries: https://www.bls.gov/news.release/archives/ecec_06132025.pdf). The estimated annual cost of recordkeeping for new models rounded to the nearest dollar is $3,327 (80 hours × $41.59). The estimated annual cost of recordkeeping for comparison lighters rounded to the nearest dollar is $17,343 (417 hours × $41.59). In total, the estimated recordkeeping burden for new lighter models and comparison lighters is 497 hours (80 hours + 417 hours). The estimated total recordkeeping costs for new lighter models and comparison lighters is $20,670 ($3,327 + $17,343).

For the reporting burden, CPSC estimates the hourly compensation for the time required for submitting the form to be $41.59 (U.S. Bureau of Labor Statistics, “Employer Costs for Employee Compensation,” March 2025, Table 4, total compensation for all sales and office workers in goods-producing, private industries: https://www.bls.gov/news.release/archives/ecec_06132025.pdf). Therefore, rounded to the nearest whole dollar, the estimated cost of reporting is $5,947.

CPSC estimates that the total burden cost for firms to prepare, maintain, and submit testing records to the CPSC is within the range of $54,406 to $126,618, depending upon whether the firms choose to conduct testing in-house or through outsourcing.

Alberta E. Mills,
Secretary Consumer Product Safety Commission.

[FR Doc. 2025-21588 Filed 11-28-25; 8:45 am]

BILLING CODE 6355-01-P